DEPARTMENT OF HEALTH AND HUMAN SERVICES

Centers for Disease Control and Prevention

[Request for Application (RFA) AA068]

Diffusion of Partnership for Health to Health Care and Medical Agencies Serving Persons Living With HIV/AIDS; Notice of Availability of Funds—Amendment

A notice announcing the availability of Fiscal Year (FY) 2005 funds to award a Cooperative Agreement for Diffusion of Partnership for Health to Health Care and Medical Agencies Serving Persons Living with HIV/AIDS was published in the Federal Register, on July 14, 2005, Volume 70, Number 134, pages 40704-40708.

The notice is amended as follows:

On page 40704, First column, please change the LOI deadline date to: July 27, 2005. Please change the application deadline date to: August 11, 2005.

On page 40706, Third column, please change the LOI deadline date to: July 27, 2005. Please change the application deadline date to: August 11, 2005.

William P. Nichols,
Director, Procurement and Grants Office, Centers for Disease Control and Prevention.

[FR Doc. 05-14572 Filed 7-22-05; 8:45 am]

BILLING CODE 4163-18-P